DEPARTMENT OF COMMERCE

Foreign-Trade Zones Board

[Order No. 1131]

Expansion of Foreign-Trade Zone 86 Tacoma, Washington, Area

Pursuant to its authority under the Foreign-Trade Zones Act of June 18, 1934, as amended (19 U.S.C. 81a-81u), the Foreign-Trade Zones Board (the Board) adopts the following Order:

Whereas, the Port of Tacoma (Washington), grantee of Foreign-Trade Zone 86, submitted an application to the Board for authority to expand FTZ 86 to include additional FTZ space at Sites 1, 2 and 3, and to include four new sites in the Tacoma, Washington, area, adjacent to the Tacoma Customs port of entry (FTZ Docket 4-2000; filed February 17, 2000);

Whereas, notice inviting public comment was given in the Federal Register (65 FR 11549, March 3, 2000) and the application has been processed pursuant to the FTZ Act and the Board's regulations; and

Whereas, the Board adopts the findings and recommendations of the examiner's report, and finds that the requirements of the FTZ Act and the Board's regulations are satisfied, and that the proposal is in the public interest;

Now, Therefore, the Board hereby orders:

The application to expand FTZ 86 is approved, subject to the Act and the Board's regulations, including § 400.28, and further subject to the Board's standard 2,000-acre activation limit for the overall zone project.

Signed at Washington, DC, this 21st day of November 2000.
Troy H. Cribb,
Assistant Secretary of Commerce for Import Administration, Alternate Chairman, Foreign-Trade Zones Board.

[FR Doc. 00-31112 Filed 12-5-00; 8:45 am]

BILLING CODE 3510-DS-P